FEDERAL COMMUNICATIONS COMMISSION

[CC Docket Nos. 96-262; 94-1; DA 01-2547]

Access Charge Reform, Price Cap Performance Review for Local Exchange Carriers

AGENCY: Federal Communications Commission.

ACTION: Notice.

SUMMARY: This document provides notice of a limited extension of time for the filing of comments and reply comments on cost submissions by price cap local exchange carriers in the subscriber line charge (SLC) cost review proceeding.

DATES: Cost submissions due November 16, 2001. Comments due January 24, 2001. Reply comments due February 14, 2002.

FOR FURTHER INFORMATION CONTACT: Jennifer McKee, Common Carrier Bureau, Competitive Pricing Division, (202) 418-1530.

SUPPLEMENTARY INFORMATION: By Public Notice dated September 17, 2001, we initiated a cost review proceeding to determine the appropriate residential and single-line business subscriber line charge (SLC) caps for price cap local exchange carriers (LECs). (66 FR 49022 September 25, 2001). On October 5, 2001, we issued a Public Notice granting several price cap LECs' request for a limited extension of time in which to file their cost submissions. (66 FR 52407 October 15, 2001). The National Association of State Utility Consumer Advocates (NASUCA) has requested an extension of time for filing comments in response to the cost submissions. We agree that an extension is warranted to allow parties with limited resources sufficient time to review and analyze large and complex cost submissions. Comments will be due no later than January 24, 2002, and reply comments will be due no later than February 14, 2002. When filing cost information and comments, parties should reference CC Docket Nos. 96-262 and 94-1.

This proceeding shall be treated as a “permit-but-disclose” proceeding in accordance with the Commission's ex parte rules. See 47 CFR 1.1200 and 1.1206. Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in section 1.1206(b) of the Commission's rules, 47 CFR 1.1206(b).

Parties filing paper copies must file an original and four copies of all cost submissions, comments and reply comments with the Office of the Secretary, Federal Communications Commission, 445 12th St., SW., Room TW-A325, Washington, DC 20554 in accordance with 47 CFR 1.51(c). Comments filed through the Commission's Electronic Comment Filing System (ECFS) can be sent as an electronic file via the Internet to http://www.fcc.gov/e-file/ecfs.html. Generally, only one copy of an electronic submission must be filed. In completing the transmittal screen, commenters should include their full name, Postal Service mailing address, and the applicable docket or rulemaking number. Parties may also submit an electronic copy by Internet e-mail. To get filing instructions for e-mail comments, commenters should send an e-mail to ecfs@fcc.gov, including the following words “get form <your email address>” in the body of the message. A sample form and directions will be sent in reply. In addition, one copy of each submission must be filed with Qualex International, the Commission's duplicating contractor, at its office at Portals II, 445 12th Street, SW., Room CY-B402, Washington, DC 20554, and one copy with the Chief, Competitive Pricing Division, 445 12th Street, SW., Room 5-A225, Washington, DC 20554.

Federal Communications Commission.
Magalie Roman Salas,
Secretary.

[FR Doc. 01-28072 Filed 11-7-01; 8:45 am]

BILLING CODE 6712-01-P